DEPARTMENT OF ENERGY

Office of Energy Efficiency and Renewable Energy

State Energy Advisory Board (STEAB)

AGENCY: Office of Energy Efficiency and Renewable Energy, Department of Energy.

ACTION: Notice of Open Teleconference.

SUMMARY: This notice announces a teleconference call of the State Energy Advisory Board (STEAB). The Federal Advisory Committee Act (Public Law 92-463; 86 Stat. 770) requires that public notice of these meetings be announced in the Federal Register.

DATES: Thursday, January 16, 2014 from 3:30 p.m. to 4:00 p.m. (EDT). To receive the call-in number and passcode, please contact the Board's Designated Federal Officer (DFO) at the address or phone number listed below.

FOR FURTHER INFORMATION CONTACT: Julie Hughes, STEAB Designated Federal Officer, Policy Advisor, U.S. Department of Energy, Office of Energy Efficiency and Renewable Energy, 1000 Independence Ave. SW., Washington, DC 20585. Phone number 202-320-9703, and email Julie.Hughes@ee.doe.gov.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. No. 101-440).

Tentative Agenda: Review the responses and feedback from EERE on a 2014 engagement plan between STEAB and EERE, review the five main focus areas for 2014 and report on progress made in those areas, provide an update to the Board on routine business matters, and begin planning and discussing the agenda and logistics for the upcoming March 2014 meeting.

Public Participation: The meeting is open to the public. Written statements may be filed with the Board either before or after the meeting. Members of the public who wish to make oral statements pertaining to agenda items should contact Julie Hughes at the address or telephone number listed above. Requests to make oral comments must be received five days prior to the meeting; reasonable provision will be made to include requested topic(s) on the agenda. The Chair of the Board is empowered to conduct the meeting in a fashion that will facilitate the orderly conduct of business.

Minutes: The minutes of the meeting will be available for public review and copying within 60 days on the STEAB Web site at: www.steab.org.

Issued at Washington, DC, on December 17, 2013.
LaTanya R. Butler,
Deputy Committee Management Officer.

[FR Doc. 2013-30493 Filed 12-20-13; 8:45 am]

BILLING CODE 6450-01-P